NUCLEAR REGULATORY COMMISSION

[Docket No. 50-391; NRC-2008-0369]

Tennessee Valley Authority; Watts Bar Nuclear Plant, Unit 2

AGENCY: Nuclear Regulatory Commission.

ACTION: Final environmental statement; issuance.

SUMMARY: Notice is hereby given that the U.S. Nuclear Regulatory Commission (NRC) has published the final version of Supplement 2 to NUREG-0498, “Final Environmental Statement, Related to the Operation of Watts Bar Nuclear Plant (WBN), Unit 2” (SFES).

ADDRESSES: Please refer to Docket ID NRC-2008-0369 when contacting the NRC about the availability of information regarding this document. You may access information related to this document, which the NRC possesses and is publicly available, using any of the following methods:

• Federal Rulemaking Web site: Go to http://www.regulations.gov and search for Docket ID NRC-2008-0369. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for Supplement 2 to NUREG-0498 is ML13144A202. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Elaine N. Keegan, Office of Nuclear Reactor Regulation, U.S. Nuclear Regulatory Commission, Washington, DC 20555-0001; telephone: 301-415-8517; email: Elaine.Keegan@nrc.gov.

SUPPLEMENTARY INFORMATION: The Tennessee Valley Authority (TVA or the applicant) submitted its Final Supplemental Environmental Impact Statement for the Completion and Operation of WBN Unit 2 (June 2007), (FSEIS) by letter dated February 15, 2008 (ADAMS Accession No. ML080510469), pursuant to Part 51 of Title 10 of the Code of the Federal Regulations (10 CFR).

On June 30, 1976, TVA submitted an application for an operating license for WBN Unit 2, pursuant to 10 CFR Part 50. An updated operating license application was submitted on March 4, 2009. The proposed action in response to the updated application is the issuance of an operating license that would authorize TVA to possess, use, and operate a second light-water nuclear reactor (the facility), WBN Unit 2, located on the applicant's site in Rhea County, Tennessee. The WBN Unit 2 would operate at a steady-state power level of 3411 megawatts thermal.

A notice of receipt and availability of the updated application, which included the FSEIS, was published in the Federal Register on May 1, 2009 (74 FR 20350). A notice of intent to prepare a supplement to the final environmental statement, which was prepared and published in 1978 and to conduct the scoping process was published in the Federal Register on September 11, 2009 (74 FR 46799). On October 6, 2009, the NRC held two scoping meetings in Sweetwater, Tennessee, to obtain public input on the scope of the environmental review. The NRC also solicited comments from Federal, State, Tribal, regional, and local agencies.

The draft SFES was published in October 2011 (ADAMS Accession No. ML112980199). The U.S. Environmental Protection Agency Notice of Filing in the Federal Register (76 FR 70130) indicated a 75-day comment period, commencing on November 10, 2011, to allow members of the public to comment on the results of the NRC staff's review. This was amended in the Federal Register on November 18, 2011, to a 45-day comment period (76 FR 71560). On December 8, 2011, two public meetings were held in Sweetwater, Tennessee. At the meetings, the NRC staff described the results of the NRC environmental review, answered questions related to the review, and provided members of the public with information to assist them in formulating their comments. Based on comments received at the public meetings, the comment period was extended by the NRC to January 24, 2012 (76 FR 80409). When the comment period ended on January 24, 2012, the NRC staff considered and addressed all the comments received.

As discussed in the Section 9.6 of the supplement, the NRC staff's recommendation to the Commission related to the environmental aspects of the proposed action is that environmental impacts are not great enough to deny the option of issuing the operating license for Watts Bar Nuclear Plant, Unit 2. This recommendation is based on (1) the application, including the February 15, 2008, final Environmental Impact Statement submitted by TVA as the Environmental Report, and responses to staff requests for additional information submitted by TVA; (2) the NRC staff's review conducted for the 1978 Final Environmental Statement to support the Operating License (FES-OL); (3) consultation with Federal, State, Tribal, and local agencies; (4) the NRC staff's own independent review of information available since the preparation and publication of the 1978 FES-OL; and (5) the assessments summarized in this SFES, including consideration of public comments received during scoping and on the draft SFES.

Dated at Rockville, Maryland, this 6th day of June 2013.
For the Nuclear Regulatory Commission.
Robert J. Pascarelli,
Chief, Plant Licensing Branch II-1, Division of Operating Reactor Licensing, Office of Nuclear Reactor Regulation.

[FR Doc. 2013-14088 Filed 6-13-13; 8:45 am]

BILLING CODE 7590-01-P